ENVIRONMENTAL PROTECTION AGENCY

[FRL OP-OFA-054]

Environmental Impact Statements; Notice of Availability

Responsible Agency: Office of Federal Activities, General Information 202-564-5632 or https://www.epa.gov/nepa.

Weekly receipt of Environmental Impact Statements (EIS) Filed January 13, 2023 10 a.m. EST Through January 23, 2023 10 a.m. EST Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230009, Draft, FERC, LA, CP2 LNG and CP Express Project, Comment Period Ends: 03/13/2023, Contact: Office of External Affairs 866-208-3372.

EIS No. 20230011, Final, FERC, PA, Valley Connector Expansion Project, Review Period Ends: 02/27/2023, Contact: Office of External Affairs 866-208-3372.

EIS No. 20230012, Draft, GSA, AZ, Expansion and Modernization of the Raul Hector Castro Land Port of Entry and Proposed Commercial Land Port of Entry in Douglas, Arizona, Comment Period Ends: 03/13/2023, Contact: Osmahn Kadri 415-760-9239.

Dated: January 23, 2023.
Cindy S. Barger,
Director, NEPA Compliance Division, Office of Federal Activities.

[FR Doc. 2023-01651 Filed 1-26-23; 8:45 am]

BILLING CODE 6560-50-P